DEPARTMENT OF COMMERCE

National Oceanic and Atmospheric Administration

RIN 0648-XC355

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Habitat Oversight Committee to consider actions affecting New England fisheries in the exclusive economic zone (EEZ). Recommendations from this group will be brought to the full Council for formal consideration and action, if appropriate.

DATES: This meeting will be held on Tuesday, December 4, 2012 at 9 a.m.

ADDRESSES: The meeting will be held at the Fairfield Inn & Suites, 185 MacArthur Drive, New Bedford, MA 02740; telephone: (774) 634-2000; fax: (774) 634-2001.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The Committee will continue to develop options and alternatives for Omnibus Essential Fish Habitat Amendment 2 (OA2). Specifically, the Committee will review Habitat Advisory Panel and Plan Development Team recommendations about Dedicated Habitat Research Areas and gear modification measures, and select options for inclusion in the OA2 document. In addition, the PDT will provide advice on combining management options into alternatives to meet overall adverse effects minimization requirements. Other area-management options and combined alternatives may also be discussed.

As a reminder, the Habitat Committee's work will feed into a joint process between the Habitat and Groundfish Committees. This joint process will draft combined alternatives that merge habitat options with yet-to-be-developed groundfish productivity-related options. This range of alternatives will be presented to the Council early next year for their approval for analysis in the OA2 Environmental Impact Statement/Magnuson-Stevens Act document.

Bureau of Ocean Energy Management staff will provide a brief status update on the Massachusetts and Rhode Island Wind Energy Areas (WEA) where leasing is under consideration, and will solicit feedback on a recently completed Environmental Assessment for the MA WEA.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: November 13, 2012.
Tracey L. Thompson,
Acting Deputy Director, Office of Sustainable Fisheries, National Marine Fisheries Service.

[FR Doc. 2012-27899 Filed 11-15-12; 8:45 am]

BILLING CODE 3510-22-P